DEPARTMENT OF DEFENSE

Department of the Air Force

[Docket ID: USAF-2008-0012]

Privacy Act of 1974; System of Records

AGENCY: Department of the Air Force, DoD.

ACTION: Notice to Alter a System of Records.

SUMMARY: The Department of the Air Force is proposing to alter a system of records in its inventory of record systems subject to the Privacy Act of 1974 (5 U.S.C. 552a), as amended.

DATES: The changes will be effective on August 6, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Ms. Novella Hill at (703) 696-6518.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, were submitted on June 24, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 30, 2008.
Patricia L. Toppings,
OSD Federal Register Liaison Officer, Department of Defense.

F036 USAFA K

System name:

Admissions Records (June 11, 1997, 62 FR 31793).

Changes:

* * * * *

Categories of records in the system:

Delete entry and replace with “Data used in the candidate selection process for the U.S. Air Force Academy: High school records; admissions test scores; physical aptitude examination scores; high school extra curricular activities; medical qualification status; personal data records; Liaison Officer evaluations; teacher evaluations; drug abuse certificates; letters of recommendation; address; phone number; Social Security Number; race; height; weight; citizenship; military parents; candidate writing sample; nomination; preparatory school or college record, if applicable; pre-candidate questionnaires; pertinent information on assigned Liaison Officers; general correspondence; selection data on new classes; medical qualification at entry; candidate high school class rank and class size; Liaison Officer Evaluations; teacher evaluations; and drug abuse certificates.”

* * * * *

Retention and disposal:

Delete paragraph 2 and replace with “Records on candidates who are not appointed are destroyed at the end of the admission cycle. Liaison Officers' records are destroyed upon separation or reassignment. Records are destroyed by tearing into pieces, shredding, pulping, macerating or burning. Computer records are destroyed by overwriting or degaussing.”

System manager(s) and address:

Delete entry and replace with “Director of Admissions, Technical Support Division (RRI), USAF Academy, CO 80840-5651.”

Notification procedure:

Delete entry and replace with “Individuals seeking to determine whether this system of records contains information on themselves should address written inquiries to or visit the Director of Admissions, Technical Support Division (RRI), USAF Academy, CO 80840-5651.

Written request should include full name, last four digits of Social Security Number (SSN), and signed request.

Persons visiting must properly establish their identity to the satisfaction of the Director of Admissions.”

Record access procedures:

Delete entry and replace with “Individuals seeking access to records about themselves contained in this system should address written requests to or visit the Director of Admissions, Technical Support Division (RRI), USAF Academy, CO 80840-5651.”

Written request should include full name, last four digits of Social Security Number (SSN), and signed request.

Persons visiting must properly establish their identity to the satisfaction of the Director of Admissions.”

* * * * *

Record source categories:

Delete entry and replace with “Educational institutions; automated system interfaces; the individual; College Entrance Examination Board; American College Testing scores; DoD Medical examinations records; letters of recommendation, members of U.S. Congress and Senate, teachers evaluations, Liaison Officers Evaluations and personnel records.”

Exemptions claimed for the system:

Delete entry and replace with “Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with 5 U.S.C. 553(b)(1), (2) and (3) and (e) and published in 32 CFR part 806b. For additional information, contact the system manager.”

* * * * *

F036 USAFA K

System name:

Admissions Records.

System location:

United States Air Force Academy (USAF Academy), CO 80840-5000.

Categories of individuals covered by the system:

Air Force Academy applicants, nominees, appointees, cadets, and Air Force Reserve officers not on active duty.

Categories of records in the system:

Data used in the candidate selection process for the U.S. Air Force Academy: High school records; admissions test scores; physical aptitude examination scores; high school extra curricular activities; medical qualification status; personal data records; Liaison Officer evaluations; teacher evaluations; drug abuse certificates; letters of recommendation; address; phone number; Social Security Number (SSN); race; height; weight; citizenship; military parents; candidate writing sample; nomination; preparatory school or college record, if applicable; pre-candidate questionnaires; pertinent information on assigned Liaison Officers; general correspondence; selection data on new classes; medical qualification at entry; candidate high school class rank and class size; Liaison Officer Evaluations; teacher evaluations; and drug abuse certificates.

Authority for maintenance of the system:

10 U.S.C. 8013, Secretary of the Air Force; 10 U.S.C. 9331, Establishment; Superintendent; faculty; and E.O. 9397 (SSN).

Purpose(s):

Used by Admissions Office, selection panels, Academy Board, Athletic Department and Preparatory School personnel for selection of cadets to attend the Preparatory School and the USAF Academy; to evaluate candidates for recommendation for civilian preparatory school scholarships, and to form the nucleus of the cadet record for candidates selected to attend the Academy.

Used by Admissions Office to prepare evaluations of candidate's potential for submission to members of Congress and to schedule for medical examinations. Used to monitor training of Liaison Officers.

Used to advise persons interested in the Academy of the name, address, and telephone number of their nearest Liaison Officer. To advise persons interested in the Academy of the name, address, and telephone number of their nearest Liaison Officer.

Used to evaluate selection procedures of USAF Academy cadets, to assure that criteria for entering cadets are met and to procure various biographical information on incoming cadets for press releases.

Used by Air Force Reserve Officer Training Corps (AFROTC) for possible AFROTC scholarship participation.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to members of Congress in connection with nominations and appointments. Names, addresses, and telephone numbers of Liaison Officers may be disclosed to individuals interested in the Academy.

Biographical information on incoming cadets may be used for press releases.

The ‘Blanket Routine Uses’ published at the beginning of the Air Force's compilation of systems of records notices apply to this system.

Policies and practices for storing, retrieving, accessing, retaining, and disposing of records in the system:

Storage:

Paper in file folders and electronic storage media.

Retrievability:

Retrieved by name and/or Social Security Number (SSN).

Safeguards:

Records are accessed by person(s) responsible for servicing the record system in performance of their official duties and by authorized personnel who are properly screened and cleared for need-to-know. Records are stored in locked rooms and cabinets. Those in computer storage devices are protected by computer system software.

Retention and disposal:

Records on candidates who are not appointed are destroyed at the end of the admission cycle. Liaison Officers' records are destroyed upon separation or reassignment. Records are destroyed by tearing into pieces, shredding, pulping, macerating or burning. Computer records are destroyed by overwriting or degaussing.

Records on candidates who are not appointed are destroyed after one year. Liaison Officers' records are destroyed upon separation or reassignment. Preparatory school records are destroyed when no longer needed. Records are destroyed by tearing into pieces, shredding, pulping, macerating or burning. Computer records are destroyed by overwriting or degaussing.

System manager(s) and address:

Director of Admissions, Technical Support Division (RRI), USAF Academy, CO 80840-5651.

Notification procedure:

Individuals seeking to determine whether this system of records contains information on themselves should address written inquiries to or visit the Director of Admissions, Technical Support Division (RRI), USAF Academy, CO 80840-5651.

Written request should include full name, Social Security Number (SSN), and signed request.

Visiting persons must properly establish their identity to the satisfaction of the Director of Admissions.

Record access procedures:

Individuals seeking access to records about themselves contained in this system should address written requests to or visit the Director of Admissions, Technical Support Division (RRI), USAF Academy, CO 80840-5651.

Written request should include full name, Social Security Number (SSN), and signed request.

Visiting persons must properly establish their identity to the satisfaction of the Director of Admissions.

Contesting record procedures:

The Air Force rules for accessing records, and for contesting contents and appealing initial agency determinations are published in Air Force Instruction 37-132; 32 CFR part 806b; or may be obtained from the system manager.

Record source categories:

Educational institutions; automated system interfaces; the individual; College Entrance Examination Board; American College Testing scores; DoD Medical examinations records; letters of recommendation, members of U.S. Congress and Senate, teachers evaluations, Liaison Officers Evaluations and personnel records.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with 5 U.S.C. 553(b)(1), (2) and (3) and (e) and published in 32 CFR part 806b. For additional information, contact the system manager.

[FR Doc. E8-15259 Filed 7-3-08; 8:45 am]

BILLING CODE 5001-06-P